DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Friday, March 28, 2014, 9:00 a.m.-12:00 p.m.

ADDRESSES: Department of Energy, 1000 Independence Avenue SW., Washington, DC 20585.

FOR FURTHER INFORMATION CONTACT: Karen Gibson, U.S. Department of Energy, 1000 Independence Avenue SW., Washington, DC 20585; telephone (202) 586-3787 or facsimile (202) 586-1441; email: seab@hq.doe.gov.

SUPPLEMENTARY INFORMATION: Background: The Board was established to provide advice and recommendations to the Secretary on the Department's basic and applied research, economic and national security policy, educational issues, operational issues, and other activities as directed by the Secretary.

Purpose of the Meeting: The meeting is the third quarterly meeting of the Board.

Tentative Agenda: The meeting will start at 9:00 a.m. on March 28th. The tentative meeting agenda includes a briefing on the loan guarantee programs, updates on the work of the SEAB task forces, presentation and discussion on the final reports of the FracFocus2.0 Task Force and the Hubs+ Task Force, and public comment. The task force reports are available for public review and comment on the SEAB Web site at: www.energy.gov/seab. Comments can be submitted by email at: seab@hq.doe.gov or in person at the meeting. The meeting will conclude at 12:00 p.m.

Public Participation: The meeting is open to the public. Individuals who would like to attend must RSVP to Karen Gibson no later than 5:00 p.m. on Tuesday, March 25, 2014, by email at: seab@hq.doe.gov. Please provide your name, organization, citizenship and contact information. Anyone attending the meeting will be required to present government-issued identification. Individuals and representatives of organizations who would like to offer comments and suggestions may do so at the end of the meeting on Friday, March 28, 2014. Approximately 30 minutes will be reserved for public comments. Time allotted per speaker will depend on the number who wish to speak but will not exceed 5 minutes. The Designated Federal Officer is empowered to conduct the meeting in a fashion that will facilitate the orderly conduct of business. Those wishing to speak should register to do so beginning at 8:30 a.m. on March 28, 2014.

Those not able to attend the meeting or who have insufficient time to address the committee are invited to send a written statement to Karen Gibson, U.S. Department of Energy, 1000 Independence Avenue SW., Washington DC 20585, or by email to: seab@hq.doe.gov.

Minutes: The minutes of the meeting will be available by contacting Ms. Gibson. She may be reached at the postal address or email address above or by visiting SEAB's Web site at www.energy.gov/seab.

Issued in Washington, DC, on February 27, 2014.
LaTanya R. Butler,
Deputy Committee Management Officer.

[FR Doc. 2014-04833 Filed 3-4-14; 8:45 am]

BILLING CODE 6450-01-P